DEPARTMENT OF THE INTERIOR

Fish and Wildlife Service

[FWS-R9-WSR-2010-N029] [91400-5420-Survey-7B and 91400-9782-Survey-7B]

Proposed Information Collection; OMB Control Number 1018-0088; National Survey of Fishing, Hunting, and Wildlife-Associated Recreation (FHWAR)

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: To ensure that we are able to consider your comments on this IC, we must receive them by April 9, 2010.

ADDRESSES: Send your comments on the IC to Hope Grey, Information Collection Clearance Officer, Fish and Wildlife Service, MS 222-ARLSQ, 4401 North Fairfax Drive, Arlington, VA 22203 (mail); or hope_grey@fws.gov (e-mail).

FOR FURTHER INFORMATION CONTACT: To request additional information about this IC, contact Hope Grey by mail or e-mail (see ADDRESSES) or by telephone at (703) 358-2482.

SUPPLEMENTARY INFORMATION:

I. Abstract

The information collected for the National Survey of Fishing, Hunting, and Wildlife-Associated Recreation (FHWAR) assists Federal and State agencies in administering the Sport Fish and Wildlife Restoration grant programs. The 2011 FHWAR will provide up-to-date information on the uses and demands for wildlife-related recreation resources, trends in uses of those resources, and a basis for developing and evaluating programs and projects to meet existing and future needs.

We collect the information in conjunction with carrying out our responsibilities under the Federal Aid in Sport Fish Restoration Act (16 U.S.C. 777-777M), commonly referred to as the Dingell-Johnson Act, and the Federal Aid in Wildlife Restoration Act (16 U.S.C. 669-669i), commonly referred to as the Pitman-Robertson Act. Under these acts, as amended, we provide approximately $800 million in grants annually to States for projects that support sport fish and wildlife management and restoration, including:

• Improvement of fish and wildlife habitats,

• Fishing and boating access,

• Fish stocking, and

• Hunting and fishing opportunities.

We also provide grants for aquatic education and hunter education, maintenance of completed projects, and research into problems affecting fish and wildlife resources. These projects help to ensure that the American people have adequate opportunities for fish and wildlife recreation.

We conduct the survey about every 5 years. The 2011 FHWAR will be the 12th conducted since 1955. We sponsor the survey at the States' request, which is made through the Association of Fish and Wildlife Agencies. The Census Bureau collects the information using computer-assisted telephone or in-person interviews. The Census Bureau will select a sample of sportspersons and wildlife watchers from a household screen and conduct three detailed interviews during the survey year. The survey collects information on the number of days of participation, species of animals sought, and expenditures for trips and equipment. Information on the characteristics of participants includes age, income, sex, education, race, and residency.

Federal and State agencies use information from the survey to make policy decisions related to fish and wildlife restoration and management. Participation patterns and trend information help identify present and future needs and demands. Land managing agencies use the data on expenditures, economic evaluation, and participation to assess the value of wildlife-related recreational uses of natural resources. States use expenditure information to estimate the economic impact of wildlife-related recreation expenditures on their economies and to support the dedication of tax revenues for fish and wildlife restoration programs. The information collected on resident saltwater fishing helps coastal States determine the proper ratio for allocating funds between freshwater and saltwater projects as required by the Federal Aid in Sport Fish Restoration Act, as amended. The information is not readily available elsewhere because few States have saltwater licenses or conduct their own surveys. If the 2011 FHWAR data were not available, it would impair the ability of those States to meet their obligations under the Act.

II. Data

OMB Control Number: 1018-0088.

Title: National Survey of Fishing, Hunting, and Wildlife-Associated Recreation (FHWAR).

Service Form Number(s): None.

Type of Request: Reinstatement with change of a previously approved information collection.

Affected Public: Individuals.

Respondent's Obligation: Voluntary.

Frequency of Collection: Household screen interviews and the first detailed sportsperson and wildlife-watcher interviews will be conducted April-June 2011. The second detailed interviews will be conducted September-October 2011. The third and last detailed interviews will be conducted January-March 2012.

Number of Respondents: 55,625. The estimated number of respondents reached from a sample of households will be 44,500. About 50 percent, or 22,250, of those respondents will sample in and receive a detailed interview. An additional 50 percent of those households where one person is sampled (11,125) will have a second person screened in for interviews. We estimate the total number of respondents to be 55,625 (44,500+11,125).

Activity | Number of household responses | Number of participant responses | Completion time per response | Annual burden hours
Screen | 44,500 |  | 7 minutes | 5,192
Hunting and Fishing - 1st Interview |  | 7,300 | 14 minutes | 1,703
Hunting and Fishing - 2d interview |  | 14,500 | 10 minutes | 2,417
Hunting and Fishing - 3d Interview |  | 21,800 | 15 minutes | 5,450
Wildlife Watching - 1st Interview |  | 3,600 | 11 minutes | 660
Wildlife Watching - 2d Interview |  | 7,300 | 11 minutes | 1,338
Wildlife Watching - 3d Interview |  | 10,900 | 11 minutes | 1,998
Totals | 44,500 | 65,400 |  | 18,758

III. Request for Comments

We invite comments concerning this IC on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: February 2, 2010
Hope Grey,
Information Collection Clearance Officer, Fish and Wildlife Service.

FR Doc. 2010-2603 Filed 2-5-10; 8:45 am

Billing Code 4310-55-S